DEPARTMENT OF COMMERCE

Census Bureau

Generic Clearance for Questionnaire Pretesting Research

ACTION: Proposed Collection; comment request.

SUMMARY: The Department of Commerce, as part of its continuing effort to reduce paperwork and respondent burden, invites the general public and other Federal agencies to take this opportunity to comment on proposed and/or continuing information collections, as required by the Paperwork Reduction Act of 1995, Pub. L. 104-13 (44 U.S.C. 3506(c)(2)(A)).

DATES: Written comments must be submitted on or before June 4, 2004.

ADDRESSES: Direct all written comments to Diana Hynek, Departmental Paperwork Clearance Officer, Department of Commerce, Room 6625, 14th and Constitution Avenue, NW., Washington, DC 20230 (or via the Internet at dhynek@doc.gov).

FOR FURTHER INFORMATION CONTACT: Requests for additional information or copies of the information collection instrument(s) and instructions should be directed to Theresa J. DeMaio, U. S. Census Bureau, Room 3127, FOB 4, Washington, DC 20233-9150, (301) 457-4894 (or via the Internet at theresa.j.demaio@census.gov).

SUPPLEMENTARY INFORMATION:

I. Abstract

The Census Bureau plans to request an extension of the current OMB approval to conduct a variety of small-scale questionnaire pretesting activities under this generic clearance. A block of hours will be dedicated to these activities for each of the next three years. OMB will be informed in writing of the purpose and scope of each of these activities, as well as the time frame and the number of burden hours used. The number of hours used will not exceed the number set aside for this purpose.

This research program will be used by the Census Bureau and survey sponsors to improve questionnaires and procedures, reduce respondent burden, and ultimately increase the quality of data collected in the Census Bureau censuses and surveys. The clearance will be used to conduct pretesting of decennial, demographic, and economic census and survey questionnaires prior to fielding them. Pretesting activities will involve one of the following methods for identifying measurement problems with the questionnaire or survey procedure: cognitive interviews, focus groups, respondent debriefing, behavior coding of respondent/interviewer interaction, and split panel tests.

II. Method of Collection

Any of the following methods may be used: mail, telephone, face-to-face; paper-and-pencil, CATI, CAPI, Internet, or IVR.

III. Data

OMB Number: 0607-0725.

Form Number: Various.

Type of Review: Regular.

Affected Public: Individuals or Households, Farms, Business or other for-profit.

Estimated Number of Respondents: 5,500.

Estimated Time Per Response: 1 hour.

Estimated Total Annual Burden Hours: 5,500.

Estimated Total Annual Cost: There is no cost to respondents, except for their time to complete the questionnaire.

Respondent's Obligation: Voluntary.

Legal Authority: 13 U.S.C. 131, 141, 142, 161, 181, 182, 193, and 301.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: March 30, 2004
Madeleine Clayton,
Management Analyst, Office of the Chief Information Officer.

[FR Doc. 04-7550 Filed 4-2-04; 8:45 am]

BILLING CODE 3510-07-P